POSTAL REGULATORY COMMISSION

[Docket Nos. MC2023-45 and MC2023-46; Order No. 6328]

Competitive Products

AGENCY: Postal Regulatory Commission.

ACTION: Notice.

SUMMARY: The Commission is recognizing recent Postal Service filings requesting the removal of Priority Mail International Regional Rate Boxes—Non-Published Rates and Priority Mail International Regional Rate Boxes (PMI RRB) Contracts from the competitive product list and a request for classification changes concerning Global Reseller Expedited Package Contracts. This notice informs the public of the filings, invites public comment, and takes other administrative steps.

DATES: Comments are due: December 8, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On November 10, 2022, pursuant to 39 U.S.C. 3642 and 39 CFR 3040.130 et seq., the Postal Service filed a request to remove Priority Mail International Regional Rate Boxes—Non-Published Rates and Priority Mail International Regional Rate Boxes (PMI RRB) Contracts from the Competitive product list.¹ To support this request, the Postal Service filed a copy of the Governors' Decision No. 19-1, an application for nonpublic treatment of the Governors' Decision, a Statement of Supporting Justification in accordance with 39 CFR 3040.132, and proposed changes to the Mail Classification Schedule (MCS). See Priority Mail International Regional Rate Boxes Request, Attachments A-D.

¹ Docket No. MC2023-45, Request of the United States Postal Service to Remove Priority Mail International Regional Rate Boxes—Non-Published Rates and Priority Mail International Regional Rate Boxes (PMI RRB) Contracts from the Competitive Product List, November 10, 2022 (Priority Mail International Regional Rate Boxes Request).

Also on November 10, 2022, pursuant to 39 CFR 3040.180 et seq., the Postal Service filed a request for classification changes concerning Global Reseller Expedited Package Contracts.² To support this request, the Postal Service filed a copy of the Governors' Decision No. 19-1, an application for nonpublic treatment of the Governors' Decision, and proposed changes to the MCS. See Competitive Classification Change Request, Attachments 1-3.

² Docket No. MC2023-46, Request of the United States Postal Service for Classification Changes Concerning Global Reseller Expedited Package Contracts and Notice of Filing Materials Under Seal, November 10, 2022 (Competitive Classification Change Request).

II. Summary of Changes

The Postal Service requests to remove MCS subsection 2510.9 Priority Mail International Regional Rate Boxes—Non-Published Rates and MCS subsection 2510.11 PMI RRB Contracts from the Competitive product list, effective January 22, 2023. See Priority Mail International Regional Rate Boxes Request at 1. The Postal Service states that the removal of these MCS subsections conforms with the elimination of Priority Mail Regional Rate Boxes set forth in Governors' Decision No. 22-6, which was included in the Postal Service's Notice of Changes in Rates and Classifications of General Applicability for Competitive Products.³ The Postal Service asserts the proposed removal satisfies the criteria in 39 CFR 3040.132. Priority Mail International Regional Rate Boxes Request at 3.

³ Id. at 1-2 (citing Docket No. CP2023-42, USPS Notice of Changes in Rates and Classifications of General Applicability for Competitive Products, November 10, 2022 (Notice of Changes in Rates and Classifications of General Applicability for Competitive Products)). Docket No. CP2023-42 is pending before the Commission.

The Postal Service also requests to remove all references to PMI RRB from MCS subsection 2510.7 Global Reseller Expedited Package Contracts, effective January 22, 2023. Competitive Classification Change Request at 1-2. The Postal Service states that the proposed removal conforms with the elimination of Priority Mail Regional Rate Boxes set forth in Governors' Decision No. 22-6, which was included in the Postal Service's Notice of Changes in Rates and Classifications of General Applicability for Competitive Products. Id. at 1. The Postal Service asserts that the proposed removal will not result in the violation of any of standards in 39 U.S.C. 3633 and 39 CFR part 3035, because “there are no Global Reseller Expedited Contracts currently in effect that include prices for Priority Mail International Regional Rate Boxes.” Id. at 3. The Postal Service also asserts that the proposed removal will not significantly change the user experience with Global Reseller Expedited Package Contracts and will not significantly impact competitors. Id. at 3-4. The Postal Service further asserts that the proposed removal will improve the accuracy of the information in MCS subsection 2510.7. Id. at 4.

III. Notice of Commission Actions

The Commission establishes Docket No. MC2023-45 to consider matters raised by the Priority Mail International Regional Rate Boxes Request and Docket No. MC2023-46 to consider matters raised by the Competitive Classification Change Request. See 39 CFR 3040.133. The instant dockets involve related issues pertaining to product removal. Accordingly, the Commission will consolidate them. See 39 CFR 3010.104.

Pursuant to 39 CFR 3040.133 and 3040.182, the Commission has posted the Priority Mail International Regional Rate Boxes Request and the Competitive Classification Change Request on its website, respectively. The Commission invites comments on the Priority Mail International Regional Rate Boxes Request and the Competitive Classification Change Request. Comments are due no later than December 8, 2022. The filings can be accessed via the Commission's website (http://www.prc.gov).

The Commission appoints R. Tim Boone to represent the interests of the general public (Public Representative) in these dockets.

IV. Ordering Paragraphs

It is ordered:

1. The Commission establishes Docket No. MC2023-45 to consider matters raised by the Priority Mail International Regional Rate Boxes Request.

2. The Commission establishes Docket No. MC2023-46 to consider matters raised by the Competitive Classification Change Request.

3. The Commission consolidates Docket Nos. MC2023-45 and MC2023-46.

4. Comments by interested persons are due by December 8, 2022.

5. Pursuant to 39 U.S.C. 505, R. Tim Boone is appointed to serve as an officer of the Commission (Public Representative) to represent the interests of the general public in these proceedings.

6. The Commission directs the Secretary of the Commission to arrange for prompt publication of this notice in the Federal Register.

By the Commission.
Erica A. Barker,
Secretary.

[FR Doc. 2022-25181 Filed 11-17-22; 8:45 am]

BILLING CODE 7710-FW-P